DEPARTMENT OF AGRICULTURE

Forest Service

Revised Land and Resource Management Plan; Lake Tahoe Basin Management Unit, South Lake Tahoe, CA

ACTION: Notice of initiation to revise the Lake Tahoe Basin Management Unit Land and Resource Management Plan.

SUMMARY: The Forest Service will revise the Lake Tahoe Basin Management Plan (hereafter referred to as the Forest Plan). This notice describes the documents available for review and how to obtain them; summarizes the need to change the Forest Plan and the initial scope of revision based upon management review and determination; provides information concerning public participation and collaboration; and includes the names and addresses of agency officials who can provide additional information.

ADDRESSES: Send written comments to: Forest Plan Revision—LTBMU, 35 College Drive, South Lake Tahoe, CA 96150. E-mail: comments-pacificsouthwest-ltbmu@fs.fed.us.

FOR FURTHER INFORMATION CONTACT: Todd Chaponot at (530) 543-2742 or Robert King at (530) 543-2619; or e-mail the revision team at : comments-pacificsouthwest-ltbmu@fs.fed.us.

SUPPLEMENTARY INFORMATION:

Documents Available for Review

The Comprehensive Evaluation Report is the Forest Plan revision analysis document that provides an evaluation of current ecological, economic, and social conditions and trends; these contribute to sustainability within the Forest Service lands managed by the Lake Tahoe Basin Management Unit (LTBMU). Publication and review of the Comprehensive Evaluation Report (CER) formally launches LTBMU's Forest Plan Revision process. The information detailed in the CER analysis, and further distilled within the forest supervisor's management review and revision theme areas are provided for public and agency review and comment. This document is now available for review (see Public Participation and Collaboration subtopic).

Components of the Forest Plan

As required under the National Forest Management Act, Terri Marceron, Forest Supervisor, LTBMU has made a determination that conditions exist that warrant a revision of the existing 1988 Forest Plan (see Forest Supervisor's Determination—Preliminary Need for Change Topics). The Management Review is the preamble to the Comprehensive Evaluation Report document; it describes the scope of the plan revision, rationale, and formal determination to proceed with revision of the LTBMU Forest Plan. The information contained in the CER, in concert with information acquired from substantive comments, will be used to structure a revised plan. The revised Forest Plan will include the following components: Desired conditions, objectives, guidelines, suitability of areas and special areas (Reference: CFR 219.7).

Forest Supervisor's Determination—Preliminary Need for Change Topics

Much of the direction contained in the 1988 Forest Plan is still valid. The parts of the plan that are working well will be carried forward into the revised Plan, limiting the revision to areas where new regulations and policy, new science, resource information, and changing social, economic, and ecologic conditions and trends have created a need for updated guidance. Through the public participation and collaboration process the Forest Supervisor has determined that the Forest Plan Revision will focus on four preliminary themes:

• Ecosystem restoration,

• Recreation management,

• Land use,

• Planning and adaptive management.

(Reference: CER Management Review; and CER Chapter 2)

Comment Requested

The Forest Service is seeking public comments about the appropriateness of the specific preliminary Need for Change topics identified in the CER document. Public comments should fall within two specific areas: (1) Whether the scope and appropriate representation of the four major theme areas identified in the CER is addressed adequately, and with the appropriate science; and (2) Specific issue areas of importance to the public that were not addressed adequately in the information presented in the full CER document. Substantive comments received by 19 March 2007 will be of the most value in evaluating public response to the adequacy of the need for change themes outlined in the Comprehensive Evaluation Report.

Planning Process Schedule

The revision process for the Lake Tahoe Basin Management Unit officially begins in January 2007 with the publication of this Notice of Initiation in the Federal Register. The final revised Forest Plan is scheduled to be issued for pre-decisional review in July 2008. Final approval of the revised LTBMU Forest Plan is scheduled to occur October 2008. As of the publication date of this notice, it is the intent of the Forest Supervisor, Terri Marceron, consistent with national Forest Service policy, that the revised forest plan will be published as a Categorical Exclusion (Reference: Forest Service Handbook FSH 1909.12, Ch. 30, Jan. 31, 2006).

Responsible Official

Terri Marceron, Forest Supervisor, Lake Tahoe Basin Management Unit at 35 College Drive, South Lake Tahoe, CA 96150.

Public Participation and Collaboration

The revision process is designed to provide continued opportunities for public collaboration in the management of public land in the Lake Tahoe Basin and provide open participation in the development of the revised Forest Plan. Pursuant to 36 CFR 219.13(a), only parties that participate in the planning process through the submission of written comments can submit an objection upon publication of the revised Forest Plan decision (see Planning Process Schedule). For additional information on the Forest Plan revision processes, access the Lake Tahoe Basin Management Web site at: http://www.fs.fed.us/r5/ltbmu/projects/. Likewise, interested members of the public can request to receive LTBMU Forest Plan revision information updates via U.S. Mail delivery, by mailing a request to: Forest Plan Revision—LTBMU, 35 College Drive, South Lake Tahoe, CA 96150, e-mailing: comments-pacificsouthwest-ltbmu@fs.fed.us, or phoning the Lake Tahoe Basin Management Unit: (530) 543-2600.

Dated: January 29, 2007.
Terri Marceron,
Forest Supervisor, Lake Tahoe Basin Management Unit.

[FR Doc. 07-475 Filed 2-2-07; 8:45 am]

BILLING CODE 3410-11-M